DEPARTMENT OF THE INTERIOR

National Park Service

[N6948; NPS-WASO-NAGPRA-NPS0042086; PPWOCRADN0-PCU00RP14.R50000]

Notice of Inventory Completion: University of California, Santa Barbara, Repository for Archaeological and Ethnographic Collections, Santa Barbara, CA

AGENCY: National Park Service, Interior.

ACTION: Notice.

SUMMARY: In accordance with the Native American Graves Protection and Repatriation Act (NAGPRA), the University of California, Santa Barbara (UCSB), Repository for Archaeological and Ethnographic Collections has completed an inventory of human remains and associated funerary objects and has determined that there is a cultural affiliation between the human remains and associated funerary objects and Indian Tribes or Native Hawaiian organizations in this notice.

DATES: Repatriation of the human remains and associated funerary objects in this notice may occur on or after April 1, 2026.

ADDRESSES: Send written requests for repatriation of the human remains and associated funerary objects in this notice to Hugh Radde, University of California, Santa Barbara, CA 93106, email NAGPRA@ucsb.edu.

SUPPLEMENTARY INFORMATION: This notice is published as part of the National Park Service's administrative responsibilities under NAGPRA. The determinations in this notice are the sole responsibility of the UCSB Repository for Archaeological and Ethnographic Collections, and additional information on the determinations in this notice, including the results of consultation, can be found in its inventory or related records. The National Park Service is not responsible for the determinations in this notice.

Abstract of Information Available

Human remains representing, at least, one individual have been identified (Accession 823.Yaqui). The 31 associated funerary objects are ceramic pottery fragments. The identity of the original collector and the date of removal are unknown. The collection was previously held by R.O. Browne, an individual known to have collected and looted cultural materials from various regions, including Arizona. The materials were reportedly stored in a private storage unit on his property until his death. In 1995, portions of his collection were donated posthumously to UC Santa Barbara. At the time of donation, the collection had been labeled as “Yaqui”. It is unknown whether the individual and objects were treated with preservative or other potentially hazardous substances.

Cultural Affiliation

Based on the information available and the results of consultation, cultural affiliation is clearly identified by the information available about the human remains and associated funerary objects described in this notice.

Determinations

The UCSB Repository for Archaeological and Ethnographic Collections has determined that:

• The human remains described in this notice represent the physical remains of one individual of Native American ancestry.

• The 31 objects described in this notice are reasonably believed to have been placed intentionally with or near individual human remains at the time of death or later as part of the death rite or ceremony.

• There is a connection between the human remains and associated funerary objects described in this notice and the Pascua Yaqui Tribe of Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 1, 2026. If competing requests for repatriation are received, the UCSB Repository for Archaeological and Ethnographic Collections must determine the most appropriate requestor prior to repatriation. Requests for joint repatriation of the human remains and associated funerary objects are considered a single request and not competing requests. The UCSB Repository for Archaeological and Ethnographic Collections is responsible for sending a copy of this notice to the Indian Tribes and Native Hawaiian organizations identified in this notice and any other consulting parties.

Authority: Native American Graves Protection and Repatriation Act, 25 U.S.C. 3003, and the implementing regulations, 43 CFR 10.10.

Dated: February 20, 2026.
Melanie O'Brien,
Manager, National NAGPRA Program.

[FR Doc. 2026-04036 Filed 2-27-26; 8:45 am]

BILLING CODE 4312-52-P